DEPARTMENT OF DEFENSE

Office of the Secretary

Renewal of Department of Defense Federal Advisory Committees

AGENCY: DoD.

ACTION: Renewal of Federal Advisory Committee.

SUMMARY: Under the provisions of 10 U.S.C. 2166(e), the Federal Advisory Committee Act of 1972 (5 U.S.C. Appendix), the Government in the Sunshine Act of 1976 (5 U.S.C. 552b), and 41 CFR 102-3.50(a), the Department of Defense gives notice that it is renewing the charter for the Missouri River (North Dakota) Task Force (hereafter referred to as “the Task Force”).

The Task Force shall provide independent advice and recommendations on plans and projects to reduce siltation of the Missouri River in the State of North Dakota, as described in this notice and in Section 705 of Title VII, the Missouri River Protection and Improvement Act of 2000, Public Law 106-541.

The Task Force shall provide independent advice and recommendations to the Secretary of the Army on plans and projects to reduce siltation of the Missouri River in the State of North Dakota and to meet the objectives of the Pick-Sloan Program. Specifically, the Task Force shall: Prepare and approve, by a majority of the members, a plan for the use of the funds made available under Public Law 106-541, to promote conservation practices in the Missouri River watershed, control and remove the sediment from the Missouri River, protect recreation on the Missouri River from sedimentation, and protect Indian and non-Indian historical and cultural sites along the Missouri River from erosion; develop and recommend to the Secretary of the Army for implementation critical restoration projects meeting the goals of the plan; and determine if these projects primarily benefit the Federal Government.

The Task Force shall report to the Secretary of the Army and the U.S. Army Corps of Engineers. As prescribed by Public Law 106-541, the Task Force shall be composed of not more than twenty members. Specifically, the Task Force membership shall be composed of: The Secretary of the Army or designee, who shall serve as the Chairperson; the Secretary of Agriculture or designee; the Secretary of Energy or designee; the Secretary of the Interior or designee; and The Trust.

The Trust is composed of sixteen members to be appointed by the Secretary of the Army, including: Twelve members recommended by the Governor of North Dakota that represent equally the various interest of the public. Included in these twelve members, there shall be recommendations of representatives of the North Dakota Department of Health, the North Dakota Parks and Recreation Department, the North Dakota Department of Game and Fish, the North Dakota State Water Commission, the North Dakota Indian Affairs Commission, agricultural groups, environmental or conservation groups, the hydroelectric power industry, recreation user groups, local governments, and other appropriate interests. The Trust also shall include one member recommended by each of the four Indian Tribes in the State of North Dakota.

These individuals recommended for The Trust shall be appointed by the Secretary of the Army as representative members to the Task Force. All Task Force members shall be appointed for two-year terms and generally will serve no more than four years total on the Task Force, or as determined by the Secretary of the Army or designee. In addition, all Task Force members shall, with the exception of travel and per diem for official travel, serve without compensation. This same term of service limitation also applies to any DoD authorized subcommittees.

With DoD approval, the Task Force is authorized to establish subcommittees, as necessary and consistent with its mission. These subcommittees or working groups shall operate under the provisions of the FACA, the Government in the Sunshine Act, and other appropriate Federal statutes and regulations.

Such subcommittees or working groups shall not work independently of the chartered Task Force, and shall report all their recommendations and advice to the Task Force for full deliberation and discussion. Subcommittees or working groups have no authority to make decisions on behalf of the chartered Task Force; nor can they report directly to the Department of Defense or any Federal officers or employees.

All subcommittees operate under the provisions of FACA, the Government in the Sunshine Act of 1976 (5 U.S.C. § 552b), governing Federal statutes and regulations, and governing DoD policies/procedures.

FOR FURTHER INFORMATION CONTACT: Jim Freeman, Advisory Committee Management Officer for the Department of Defense, 703-692-5952.

SUPPLEMENTARY INFORMATION: The Task Force shall meet at the call of the Task Force's Designated Federal Officer, in consultation with the Task Force's Chairperson. The estimated number of Task Force meetings is no less than two per year.

In addition, the Designated Federal Officer is required to be in attendance at all Task Force and subcommittee meetings for the entire duration of each and every meeting; however, in the absence of the Designated Federal Officer, the Alternate Designated Federal Officer shall attend the entire duration of the Task Force or subcommittee meeting.

Pursuant to 41 CFR §§ 102-3.105(j) and 102-3.140, the public or interested organizations may submit written statements to Task Force membership about the Task Force's mission and functions. Written statements may be submitted at any time or in response to the stated agenda of planned meeting of the Task Force.

All written statements shall be submitted to the Designated Federal Officer for the Task Force, and this individual will ensure that the written statements are provided to the membership for their consideration. Contact information for the Task Force Designated Federal Officer can be obtained from the GSA's FACA Database— https://www.fido.gov/facadatabase/public.asp.

The Designated Federal Officer, pursuant to 41 CFR 102-3.150, will announce planned meetings of the Task Force. The Designated Federal Officer, at that time, may provide additional guidance on the submission of written statements that are in response to the stated agenda for the planned meeting in question.

Dated: May 8, 2012.
Aaron Siegel,
Alternate OSD Federal Register Liaison Officer, Department of Defense.

[FR Doc. 2012-11482 Filed 5-11-12; 8:45 am]

BILLING CODE 5001-06-P